DEPARTMENT OF COMMERCE

Economic Development Administration

[Docket No. 0405426162-4162-01]

Trade Adjustment Assistance for Firms Program

AGENCY: Economic Development Administration (EDA); Department of Commerce (DOC).

ACTION: Notice and request for proposals.

SUMMARY: The mission of EDA is to lead the Federal economic development agenda by promoting innovation and competitiveness, which will prepare American regions for growth and success in the worldwide economy. EDA administers the Trade Adjustment Assistance (TAA) for Firms Program (the “Program”) to assist manufacturing and production firms, which have lost domestic sales and employment due to increased imports of similar or competitive goods (a “trade-impacted firm”), become more competitive in the global economy. EDA administers the Program through a national network of Trade Adjustment Assistance Centers (TAACs).

With funding from EDA, TAACs assist trade-impacted firms by (i) preparing and submitting petitions to EDA for certification of eligibility necessary to apply for assistance under the Program (a “certified firm”), (ii) assisting certified firms in developing and submitting for EDA approval adjustment proposals and (iii) sharing in the cost of implementing (primarily through private sector consultants) the technical assistance tasks as set forth in approved adjustment proposals. 13 CFR 315(8)(c). The Program also benefits certain organizations assisting or representing trade-impacted manufacturing or production firms. Firms (or organizations representing firms) other than manufacturing or production firms (e.g., service industries) are not eligible for benefits under the Program.

Through this competitive solicitation, EDA is seeking proposals from organizations to administer the Program for the State of New Jersey. The applicant selected will operate a TAAC to serve the State of New Jersey for a twelve-month period encompassing the remainder of FY 2004 and a portion of FY 2005.

DATES: Proposals must be received by the EDA Office of Strategic Initiatives at the below address by July 15, 2004 at 4 p.m. (EDT). Proposals received after 4 p.m. (EDT) on July 15, 2004 will not be considered for funding. By August 15, 2004, EDA will notify applicants as to whether they will receive funding under this competition solicitation. It is anticipated that the successful applicant will be funded no later than September 30, 2004; however, there is no guarantee that the successful applicant will receive funding. Proposals that were not recommended for funding will be retained by EDA for one year, at which time such proposals will be destroyed.

ADDRESSES: Applications submitted under this competition solicitation may be mailed to the address below or hand-delivered to Room 1874 at the address below:

Anthony Meyer, U.S. Department of Commerce, Economic Development Administration, Office of Strategic Initiatives, Room 7812, 14th Street & Constitution Avenue, NW., Washington, DC 20230, Telephone: (202) 482-2127 (not a toll free call).

Facsimile or electronic submissions will not be accepted.

FOR FURTHER INFORMATION CONTACT: The full Federal Funding Opportunity announcement for this competitive solicitation is available through EDA's Web site, http://www.eda.gov, and at http://www.grants.gov or you may contact the EDA Program Officer listed above. Note that EDA intends to transfer administrative responsibility for the Program to its regional offices during FY 2004. When the transfers occur, administrative responsibility for the New Jersey TAAC will be transferred to EDA's Philadelphia regional office.

SUPPLEMENTARY INFORMATION:

Electronic Access: EDA is not currently able to accept electronic submissions of proposal packages. The full FFO announcement for the FY 2004 Trade Adjustment for Firms Program competition is available through EDA's Web site, http://www.eda.gov, and at http://www.grants.gov.

Funding Availability: For FY 2004, EDA has a total of $11,874,000 in appropriations available for the Program. EDA expects to allocate $738,395 to the TAAC serving the State of New Jersey. EDA typically awards funding to a TAAC for a twelve-month period, although EDA may extend such awards. See 13 CFR 315.5, .7(a)(i). Due to the close relationship between EDA and the New Jersey TAAC, EDA will fund the New Jersey TAAC under a cooperative agreement.

Statutory Authority: Chapters 3 and 5 of Title II of the Trade Act of 1974, as amended (Pub. L. 93-618, 19 U.S.C. 2341 et seq.), and as further amended by 97-35, 98-120, 98-369, 99-272, 99-514, 100-418, 103-66, 105-277 and 107-210.

CFDA: 11.313, Economic Development—Trade Adjustment Assistance.

Eligibility: A university affiliate, State or local government affiliate, or a nonprofit organization is an eligible TAAC applicant and may submit a proposal pursuant to this competitive solicitation. 13 CFR 315.4(a).

Cost Sharing Requirements: Under the Program, a matching share is not required for certification assistance provided by TAACs to certified firms or for administrative expenses of the TAAC. Note that certain income will likely be generated by the TAAC as a certified firm must, to the extent practicable, pay the TAAC at least 25 percent of the costs of preparing the certified firm's adjustment proposal. 13 CFR 315.7(b)(1), (2). The TAAC will retain such funds and use them to support its Program activities.

It is EDA's policy that certified firms pay part of the costs of consultants hired to assist in implementing the technical assistance tasks set forth in the certified firm's approved adjustment proposals. If the total amount of technical assistance requested is $30,000 or less, the certified firm is generally required to pay at least 25 percent of the consultant costs. If the total amount of technical assistance requested is above $30,000, the certified form is generally required pay at least 50 percent of the consultant costs. The TAAC's total share of consultant costs for technical assistance is generally limited to $75,000 for any one certified firm.

Intergovernmental Review: Applications submitted under this program are not subject to Executive Order 12372, “Intergovernmental Review of Federal Programs.”

Evaluation and Selection Procedures: The Office of Strategic Initiatives will conduct an initial administrative review of each proposal package to determine its completeness and compliance with the requirements set forth in this competition solicitation. Incomplete proposals or proposals received after July 15, 2004 filing deadline will not be considered. The Office of Strategic Initiatives will then conduct a technical review of each proposal meeting the requirements of this competition solicitation. The technical review will be conducted by a minimum of three full-time EDA staff members using the criteria provided under the section entitled Evaluation Criteria. The review panel will evaluate each proposal and make its recommendation to the Selecting Official. The Chief of Staff, Economic Development Administration, Department of Commerce, is the Selecting Official. Upon receiving the review panel's recommendation, the Selecting Official may (i) choose not to make any selection, (ii) follow the recommendation of the review panel, or (iii) substitute one of the lower ranking proposals. The Selecting Official may select a lower ranking proposal for several reasons, including the priorities set forth in the “Program Priorities” section below, the investment policy guidelines set forth in the “Evaluation Criteria” section below and the applicant's performance under previous awards.

Evaluation Criteria: Applications for the proposed TAAC will be competitively evaluated on their ability to meet or exceed the following investment policy guidelines (each criterion will be given roughly equivalent weight):

(1) Be market-based and results driven. A successful TAAC proposal will capitalize on the organization's strengths and will bolster the competitiveness of trade-impacted firms, resulting in tangible and quantifiable improvements in the firm's economic health, such as retained or increased numbers of jobs, increased sales, or increased private sector investment.

(2) Have strong organizational leadership. A successful TAAC proposal will demonstrate strong leadership, relevant project management experience, and a significant commitment of human resources talent to ensure a high-performing TAAC. EDA will specifically evaluate (a) the extent to which the proposed TAAC will maximize coordination with other relevant organizations (e.g., the Manufacturing Extension Partnerships and private industry groups) to foster collaboration and to avoid duplication of services offered by other organizations, and (b) the sponsoring organization's degree of support and commitment to the proposed TAAC's mission.

(3) Advance productivity, innovation and entrepreneurship. A successful TAAC proposal will embrace the principles of entrepreneurship and focus on improving the stability of trade-impacted firms through productivity improvements and innovative solutions to the challenges facing their industries.

(4) Look beyond the immediate economic horizon and anticipate economic changes. A successful TAAC proposal will describe and set forth a comprehensive strategy for assisting trade-impacted firms in identifying and addressing both current and probable future problems.

Program Priorities: EDA encourages the submission of proposals that will significantly benefit trade-impacted manufacturing and production firms. EDA expects to proposals to demonstrate familiarity or an ability to quickly become familiar with the core TAAC objectives and activities outlined in the SUMMARY section above and in the FFO for this competitive solicitation.

Announcement and Award Dates: By August 15, 2004, EDA will notify applicants as to whether they will receive funding under this competition solicitation. It is anticipated that the successful applicant will be funded no later than September 30, 2004; however, there is no guarantee that the successful applicant will receive funding. Proposals that were not recommended for funding will be retained by EDA for one year, at which time such proposals will be destroyed.

The Department of Commerce Award Notification Requirements for Grants and Cooperative Agreements

Administrative and national policy requirements for all Department of Commerce awards are contained in the Department of Commerce Pre-Award Notification Requirements for Grants and Cooperative Agreements, published in the Federal Register on October 1, 2001 (66 FR 49917), as amended by the Federal Register notice published on October 30, 2002 (67 FR 66109). These notices may be accessed by entering the Federal Register volumes and page numbers noted in the previous sentence at the following GPO Web site http://www.gpoaccess.gov/fr/retrieve.html.

Paperwork Reduction Act

This document contains collection-of-information requirements subject to the Paperwork Reduction Act (PRA). The use of Forms ED-900P, SF-424A, SF-424-B and CD-346 have been approved by OMB under the control numbers 0610-0094, 0348-0044, 0348-0040 and 0605-0001, respectively. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act or any other law for rules concerning grants, benefits and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 9, 2004.
Mary Pleffner,
Acting Assistant Secretary for Economic Development.

[FR Doc. 04-13547 Filed 6-15-04; 8:45 am]

BILLING CODE 3510-24-M